DEPARTMENT OF THE INTERIOR

Bureau of Reclamation

[DES 09-55]

Request for Small Reclamation Projects Act Loan To Construct Narrows Dam in Sanpete County, UT

AGENCY: Bureau of Reclamation, Interior.

ACTION: Notice of Availability and Notice of Public Hearings for the Narrows Project Supplemental Draft Environmental Impact Statement (SDEIS).

SUMMARY: The Bureau of Reclamation (Reclamation), in cooperation with the U.S. Forest Service and the U.S. Army Corps of Engineers, has prepared and made available to the public a SDEIS pursuant to Section 102(2)(c) of the National Environmental Policy Act of 1969 (NEPA), as amended, 42 U.S.C. 4332.

DATES: A 63-day public review period commences with the publication of this notice. Written comments on the SDEIS are due by Tuesday, June 1, 2010.

Two public hearings have been scheduled for the SDEIS:

• Wednesday, April 28, 2010, 6 p.m. to 9 p.m., Manti, Utah.

• Thursday, April 29, 2010, 6 p.m. to 9 p.m., Price, Utah.

ADDRESSES: Send written comments on the SDEIS and requests for copies to Mr. Peter Crookston, PRO-774, Bureau of Reclamation, Provo Area Office, 302 East 1860 South, Provo, Utah 84606-7317; facsimile (801) 379-1159; e-mail: narrowseis@usbr.gov. The SDEIS is also available on Reclamation's Web site at http://www.usbr.gov/uc/(click on Environmental Documents and then click on the Narrows Supplemental Draft Environmental Impact Statement).

The public hearings will be held at:

• Manti: Manti City Hall, 50 South Main Street, 2nd Floor, Manti, Utah.

• Price: Price Civic Auditorium, 185 East Main Street, Price, Utah.

See SUPPLEMENTARY INFORMATION section for locations of where copies of the SDEIS are available for public review and inspection.

FOR FURTHER INFORMATION CONTACT: Mr. Peter Crookston, telephone (801) 379-1152; facsimile (801) 379-1159; e-mail: narrowseis@usbr.gov. If special assistance is required regarding accessibility accommodations for attendance at either of the public hearings, please contact Peter Crookston no less than 5 working days prior to the applicable hearing(s).

SUPPLEMENTARY INFORMATION: The Narrows Project SDEIS describes the effects of Reclamation issuing to the Sanpete Water Conservancy District (SWCD) a loan pursuant to the authority of the Small Reclamation Projects Act, as amended (43 U.S.C. 422a-422k, 70 Stat. 1044), as well as issuing to the SWCD a right of use of Federal lands in accordance with Reclamation law. These Reclamation actions would facilitate the construction by SWCD of the proposed Narrows Dam and reservoir, a non-Federal project to be located on Gooseberry Creek in Sanpete County, Utah. The loan application and request for a right of use of Federal lands by SWCD to build the Narrows Project is intended to meet the purpose of developing an irrigation and municipal and industrial (M&I) supply source for water users in northern Sanpete County, Utah. The needs that would be met by the proposed Narrows Project include meeting present and future demand for municipal water, providing an adequate supply of late season irrigation water, and rehabilitating the Narrows Tunnel in Sanpete County to maintain and enhance its dependability and capability to deliver water to Sanpete County users.

The Narrows Project SDEIS updates information and analyses contained in the Narrows Project Draft Environmental Impact Statement (DES 98-10) published in March 1998 and discloses the direct, indirect, and cumulative effects of the proposed action and alternative actions for water development in northern Sanpete County, Utah. A Notice of Intent to prepare the Narrows Project SDEIS was published in the Federal Register on November 25, 2003 (68 FR 66123-66124). The SDEIS describes and analyzes the potential effects of three action alternatives and a no action alternative.

The No Action Alternative represents the conditions of the affected area if Reclamation does not approve the Small Reclamation Projects Act loan or issue a right of use of Federal lands to SWCD for the Narrows Project. It establishes the baseline for evaluating the environmental impacts of SWCD providing a supplemental water supply to northern Sanpete County, Utah. The No Action Alternative also establishes anticipated conditions in the affected areas without further development and assumes that irrigation operations would continue according to historic use.

The Proposed Action Alternative would provide northern Sanpete County an average annual supply of 4,281 acre-feet of supplemental irrigation water for 15,420 acres of presently irrigated farmland and 855 acre-feet of water for municipal use. The project would include construction of the 17,000 acre-foot Narrows Dam and reservoir on Gooseberry Creek, pipelines to deliver the water to existing water distribution systems, rehabilitation of the existing 3,100-foot Narrows Tunnel, and relocation of 2.9 miles of State Road (SR) 264. The dam would be 120-feet high with a crest length of 550 feet and a crest width of 30 feet. The project would also provide recreation opportunities.

The Mid-Sized Reservoir Alternative would be similar to the Proposed Action Alternative except that the reservoir capacity would be limited to 12,450 acre-feet. Of that amount, 9,950 acre-feet would be active capacity and 2,500 acre-feet would be inactive storage. The 110-foot high dam, with a crest length of 475 feet and crest width of 30 feet, would be in the same location as that for the Proposed Action Alternative. Other features of the project would be the same as those for the Proposed Action Alternative and would include the construction of pipelines, rehabilitation of the existing Narrows Tunnel, relocation of SR-264, and recreation opportunities.

The Small Reservoir Alternative would be similar to the Proposed Action Alternative except that the reservoir capacity would be limited to 7,900 acre-feet. Of that amount, 5,400 acre-feet would be active capacity and 2,500 acre-feet would be inactive storage. The 100-foot high dam, with a crest length of 425 feet and crest width of 30 feet, would be in the same location as that for the Proposed Action Alternative. Other features of the project would be the same as those for the Proposed Action Alternative and would include the construction of pipelines, rehabilitation of the existing Narrows Tunnel, relocation of SR-264, and recreation opportunities.

Copies of the SDEIS are available for public review and inspection at the following locations:

• Bureau of Reclamation, Upper Colorado Regional Office, 125 South State Street, Room 7418, Salt Lake City, Utah 84138-1102.

• Bureau of Reclamation, Provo Area Office, 302 East 1860 South, Provo, Utah 84606-7317.

• Utah State Clearinghouse, Attention: Tenielle Young, Governor's Office of Planning and Budget, Utah State Capitol Complex, Suite E210, P.O. Box 142210, Salt Lake City, Utah 84114-2210.

Libraries

• Manti Public Library, 50 South Main Street, Manti, Utah 84642.

• Price Public Library, 159 East Main Street, Price, Utah 84501.

• Salt Lake City Public Library, 210 East 400 South, Salt Lake City, Utah 84111.

Background

The SWCD has applied to Reclamation for a Small Reclamation Projects Act loan to help finance construction of a reservoir and related facilities. The SWCD has also requested from Reclamation a right of use of Federal lands as the site for dam construction. Reclamation's release of this SDEIS does not imply either approval or denial of the Small Reclamation Projects Act loan application or the request for authorization to use withdrawn lands. If Reclamation approves the Small Reclamation Projects Act loan and right of use of Federal lands in accordance with Reclamation law, and Congress appropriates the necessary funds, a supplemental water supply would be developed for presently irrigated lands and M&I water users in northern Sanpete County, Utah. Most of the reservoir basin would be located on adjacent, privately-owned land. A dam and reservoir would be constructed on Gooseberry Creek and 5,400 acre-feet of water would be diverted annually through an existing tunnel and a proposed pipeline to Cottonwood Creek; the existing tunnel would be rehabilitated. Pipelines would be constructed to deliver the water to existing water distribution systems. Recreation facilities would be developed and a 2,500-acre-foot minimum pool for fish habitat would be provided. The resulting water storage and delivery system would be a non-Federal project owned and operated by SWCD.

Mitigation measures would be implemented to offset any identified adverse impacts. Additional water conservation measures would be implemented independent of the proposed action. To be eligible to receive water from the Narrows Project, water users would be required to use, or agree to implement, conservation measures.

The Narrows Project, as defined in the SDEIS, is a non-Federal project that fulfills the intent of the larger Federal Gooseberry Project that was formulated more than 70 years ago, but never completed.

Purpose and Need for Action

The loan application and request for a right of use of Federal lands by SWCD to build the Narrows Project is intended to meet the purpose of developing an irrigation and M&I supply source for water users in northern Sanpete County, Utah. The needs that would be met by the proposed Narrows Project include meeting present and future demand for municipal water, providing an adequate supply of late season irrigation water, and rehabilitating the Narrows Tunnel in Sanpete County to maintain and enhance its dependability and capability to deliver water to Sanpete County users.

Proposed Federal Action

The proposed Federal action is Reclamation's required determination as to whether to recommend approval of SWCD's requested loan pursuant to the Small Reclamation Projects Act, as well as approval for a right of use of Federal lands to build and operate the proposed Narrows Project. Because issuance of a loan and authorization of a right of use of Federal lands would facilitate construction and operation of the Narrows Project, the SDEIS analyzes the effects of that proposed project and alternatives.

Hearing Process Information: The purpose of the public hearings is for Reclamation to receive oral and written comments from the public. Comments received at the public hearings will not be addressed during the public hearings. Oral comments presented at the hearings will be limited to five minutes. The hearing officer may allow any speaker to provide additional oral comments after all persons wishing to comment have been heard. All comments will be formally recorded. Speakers will sign up at the door as they arrive. Speakers not present when called will lose their privilege in the scheduled order and will be recalled at the end of the scheduled speakers. Speakers are encouraged to provide written versions of their oral comments, and any other additional written materials, for the hearing/administrative record.

Written comments should be received by Reclamation's Provo Area Office using the contact information in the ADDRESSES section of this notice no later than Tuesday, June 1, 2010, for inclusion in the hearing/administrative record. Under the NEPA process, written and oral comments, received by the due date, are given the same consideration.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: February 11, 2010.
Brent Rhees,
Assistant Regional Director—UC Region.

[FR Doc. 2010-6592 Filed 3-26-10; 8:45 am]

BILLING CODE 4310-MN-P